NATIONAL ARCHIVES AND RECORDS ADMINISTRATION

Federal Financial Assistance Management Improvement Act of 1999; Request for Comment; Interim/Draft Plan of Action To Implement Public Law 106-107, the Federal Financial Assistance Management Improvement Act of 1999

AGENCY: National Archives and Records Administration (NARA).

ACTION: Notice; request for public comments.

SUMMARY: This notice notifies interested parties that the National Archives and Records Administration (NARA) is participating in the joint effort with other Federal grant-making agencies to satisfy the provisions of Public Law 106-107, the Federal Financial Assistance Management Improvement Act of 1999 (henceforth “the Act”). The Act requires each agency to develop and implement a plan that streamlines and simplifies the application, administrative, and reporting procedures for Federal financial assistance programs. The Act also requires the agencies to consult with representatives of non-Federal entities during the development and implementation of their plans. NARA's National Historical Publications and Records Commission (NHPRC) makes grants to state and local archives, colleges and universities, libraries, historical societies, other nonprofit organizations, and individuals in the U.S. to help identify, preserve, and provide public access to records, photographs, and other materials that document American history.

Accordingly, NARA seeks public comment on the interim/draft plan of action published jointly by 23 Federal grant-making agencies in the January 17, 2001 Federal Register (66 FR 4584). NARA requests your comments on the Federal grantmaking process and the objectives outlined in this plan, particularly on the questions contained in the notice under the heading “Desired Focus of Comments”. The notice may be accessed through GPO Access or on NARA's web site at http://www.nara.gov/nara/grant-plan-notice.html. Further information about the NHPRC grant program is available on NARA's web site at http://www.nara.gov/nhprc/.

DATES: Comments in response to this notice must be received on or before March 19, 2001. Each Federal agency will submit an implementation plan to OMB and Congress before May 20, 2001 and report annually thereafter.

ADDRESSES: General comments on this notice, and those relating to more than one Federal agency, should be addressed to: Attn: PL 106-107 Comments, Department of Health and Human Services, 200 Independence Avenue, SW., Room 517-D, Washington, DC 20201. Comments may also be transmitted by email (PL106107@os.dhhs.gov) or by fax, (202) 690-8772.

Comments that are specific to NARA and the NHPRC grant program should be addressed to: Regulation Comment Desk (NPOL), National Archives and Records Administration, 8601 Adelphi Rd., Room 4100, College Park, MD 20740-6001. Comments may also be transmitted by email to comments@nara.gov, with the subject heading PL106-107, or by fax to (301) 713-7270.

FOR FURTHER INFORMATION CONTACT: For general questions regarding this notice, please contact Rodd Clay, Office of Grants Management, Department of Health and Human Services by email (rclay@os.dhhs.gov) or phone at (202) 690-8723; for the hearing impaired only: TDD 202-690-6415. For NHPRC-specific issues, please contact Nancy Allard by email at nancy.allard@nara.gov or by phone at 301-713-7360 ext. 226. Additional information regarding the agencies' reform efforts may be found at the Chief Financial Officers (CFO) Council's Grants Management Committee home page (http://www.financenet.gov/fed/cfo/grants/grants.html).

Dated: February 8, 2001.
John W. Carlin,
Archivist of the United States.

[FR Doc. 01-3757 Filed 2-13-01; 8:45 am]

BILLING CODE 7515-01-U